DEPARTMENT OF THE INTERIOR

National Park Service

Notice of Intent to Repatriate a Cultural Item in the Possession of the Springfield Science Museum, Springfield, MA

AGENCY: National Park Service, Interior.

ACTION: Notice.

Notice is hereby given in accordance with provisions of the Native American Graves Protection and Repatriation Act, 43 CFR 10.10 (a)(3), of the intent to repatriate a cultural item in the possession of the Springfield Science Museum, Springfield, MA, that meets the definition of “sacred object” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The sacred object is a hide pouch, 5 1/2 in. long and 2 1/2 in. wide with a buckskin tie, containing black mineral pigment.

In 1991, this item was purchased by the Springfield Science Museum from the Northeastern Taxidermy Studio of Catskill, NY. Members of the Navajo Nation, Arizona, New Mexico & Utah have identified this item as necessary for the continued practice of traditional Navajo religion by present-day adherents. Representatives of the Navajo Nation and traditional religious leaders have confirmed that this item is needed for on-going ceremonial and religious traditions and have requested that this item be repatriated. The Springfield Science Museum’s records indicate that the object under consideration for repatriation is Navajo in origin and was most likely used by Navajo medicine men prior to 1900.

Based on the above-mentioned information, officials of the Springfield Science Museum in consultation with representatives of the Navajo Nation have determined that, pursuant to 43 CFR 10.2 (d)(3), this cultural item is a specific ceremonial object needed by traditional Native American religious leaders for the practice of traditional Native American religions by their present-day adherents. Officials of the Springfield Science Museum also have determined that, pursuant to 43 CFR 10.2 (e), there is a relationship of shared group identity that can be reasonably traced between this sacred object and the Navajo Nation, Arizona, New Mexico & Utah.

This notice has been sent to officials of the Navajo Nation, Arizona, New Mexico & Utah. Representatives of any other Indian tribe that believes itself to be culturally affiliated with this sacred object should contact John Pretola, Curator of Anthropology, Springfield Science Museum, 236 State Street, Springfield, MA 01103, telephone (413) 263-6800, before July 18, 2002. Repatriation of this sacred object to the Navajo Nation, Arizona, New Mexico & Utah may begin after that date if no additional claimants come forward.

Dated: May 6, 2002.
Robert Stearns,
Manager, National NAGPRA Program.

[FR Doc. 02-15292 Filed 6-17-02; 8:45 am]

BILLING CODE 4310-70-S